DEPARTMENT OF COMMERCE

International Trade Administration

[A-580-834]

Stainless Steel Sheet and Strip in Coils from the Republic of Korea: Rescission of Antidumping Duty Administrative Review

AGENCY: Import Administration, International Trade Administration, Department of Commerce.

ACTION: Notice of Rescission of Antidumping Duty Administrative Review.

SUMMARY: On August 27, 2002, in response to timely requests from petitioners¹ and DaiYang Metal Corporation Ltd. (“DMC”), a Korean producer and exporter of subject merchandise, in accordance with section 751(a) of the Act, the Department published in the Federal Register a notice of initiation of this antidumping duty administrative review of sales by DMC and Pohang Iron & Steel Co., Ltd. (“POSCO”) of stainless steel sheet and strip in coils from the Republic of Korea (“SSSS”) for the period July 1, 2001 through June 30, 2002. See Initiation of Antidumping and Countervailing Duty Administrative Reviews and Requests for Revocation in Part, 67 FR 55000 (August 27, 2002) (“Initiation Notice”). Because both DMC and petitioners have withdrawn their requests for administrative review, the Department is rescinding this review, in accordance with 19 CFR 351.213(d)(1). The Department is now publishing its determination to rescind this review.

¹ Allegheny Ludlum, AK Steel Corporation, J&L Specialty Steel, North American Stainless, Butler-Armco Independent Union, United Steelworkers of America, AFL-CIO/CLC, and Zanesville Armco Independent Organization

EFFECTIVE DATE: November 14, 2002.

FOR FURTHER INFORMATION CONTACT: Lilit Astvatsatrian, Import Administration, International Trade Administration, U.S. Department of Commerce, 14th Street and Constitution Avenue, N.W., Washington, DC 20230; telephone: (202) 482-6412.

SUPPLEMENTARY INFORMATION:

Applicable Statute

Unless otherwise indicated, all citations to the Tariff Act of 1930, as amended (“the Act”), are references to the provisions effective January 1, 1995, the effective date of the amendments made to the Act by the Uruguay Round Agreements Act. In addition, unless otherwise indicated, all citations to the Department of Commerce's regulations are to 19 CFR part 351 (2001).

Background

On July 1, 2002, the Department published a notice of opportunity to request administrative review. See Notice of opportunity to request administrative review of antidumping or countervailing duty order, finding, or suspended investigation, 67 FR 44172 (July 1, 2002). On July 31, 2002, the petitioners requested that the Department conduct an administrative review for the period July 1, 2001 through June 30, 2002, of POSCO, a producer/exporter of the subject merchandise from Republic of Korea. On July 31, 2002, DMC requested that the Department conduct an administrative review for its sale of the subject merchandise during the period July 1, 2001 through June 30, 2002. On August 27, 2002, the Department published its Initiation Notice on SSSS from Republic of Korea. On September 4, 2002, the Department issued antidumping duty questionnaires to POSCO and DMC. On October 7, 2002, DMC withdrew its request for the administrative review and requested that the Department rescind the review. See Letter to Withdraw DMC's Review Request dated October 7, 2002. On October 9, 2002, POSCO submitted its Section A response to the Department's questionnaire. See Section A Response of Antidumping Questionnaire dated October 9, 2002. On October 10, 2002, petitioners withdrew their request for an administrative review of POSCO. See Letter to Withdraw POSCO's Review Request dated October 10, 2002.

Rescission of Review

Pursuant to 19 CFR 351.213(d)(1), the Department will rescind an administrative review, in whole or in part, if a party that requested a review withdraws the request within 90 days of the date of publication of notice of initiation of requested review. Both petitioners and respondents withdrew their respective requests for review within the 90 day time limit; accordingly, we are rescinding the administrative review for the period July 1, 2001 through June 30, 2002, and will issue appropriate assessment instructions to the U.S. Customs Service.

This notice serves as a reminder to parties subject to administrative protective order (“APO”) of their responsibility concerning the disposition of proprietary information disclosed under APO in accordance with 19 CFR 351.305(a)(3). Timely written notification of the return or destruction of APO materials or conversion to judicial protective order is hereby requested.

Failure to comply with the regulations and terms of APO is a sanctionable violation. This determination is issued in accordance with 19 CFR 351.213(d)(4) and section 777(i)(1) of the Act.

Dated: November 1, 2002.
Joseph A. Spetrini,
Deputy Assistant Secretary for Import Administration, Group III.

[FR Doc. 02-28926 Filed 11-13-02; 8:45 am]

BILLING CODE 3510-DS-S